ENVIRONMENTAL PROTECTION AGENCY

40 CFR Part 52

[EPA-HQ-OAR-2010-0107; FRL-9197-2]

RIN 2060-AQ45

Action To Ensure Authority To Issue Permits Under the Prevention of Significant Deterioration Program to Sources of Greenhouse Gas Emissions: Federal Implementation Plan

AGENCY: Environmental Protection Agency (EPA).

ACTION: Notice of public hearing; correction.

SUMMARY: In this document, EPA is making a correction to the Action to Ensure Authority To Issue Permits Under the Prevention of Significant Deterioration Program to Sources of Greenhouse Gas Emissions: Federal Implementation Plan; Public Hearing to be held on September 14, 2010 (published in the Federal Register on August 30, 2010, 75 FR 52916). We inadvertently within the summary section of the document stated that the hearing will be held in Arlington, VA. This document corrects the location to Washington, DC.

ADDRESSES: Public Hearing: The September 14, 2010 hearing will be held at the EPA Ariel Rios East building, Room 1153, 1301 Constitution Avenue, Washington, DC 20460. The public hearing will convene at 9 a.m. (eastern standard time) and continue until the later of 6 p.m. or 1 hour after the last registered speaker has spoken. The EPA will make every effort to accommodate all speakers that arrive and register. A lunch break is scheduled from 12:30 p.m. until 2 p.m. Because this hearing is being held at U.S. Government facilities, individuals planning to attend the hearing should be prepared to show valid picture identification to the security staff in order to gain access to the meeting room. In addition, you will need to obtain a property pass for any personal belongings you bring with you. Upon leaving the building, you will be required to return this property pass to the security desk. No large signs will be allowed in the building, cameras may only be used outside of the building, and demonstrations will not be allowed on Federal property for security reasons. The EPA Web Site for the rulemaking, which includes the proposal and information about the public hearing, can be found at: http://www.epa.gov/nsr.

Docket: The EPA has established a docket for this action under Docket ID No. EPA-HQ-OAR-2010-0107. All documents in the docket are listed in the http://www.regulations.gov index. Although listed in the index, some information is not publicly available, e.g., confidential business information or other information whose disclosure is restricted by statute. Certain other material, such as copyrighted material, will be publicly available only in hard copy. Publicly available docket materials are available either electronically in http://www.regulations.gov or in hard copy at the EPA Docket Center EPA/DC, EPA West, Room 3334, 1301 Constitution Ave., NW., Washington, DC. The Public Reading Room is open from 8:30 a.m. to 4:30 p.m., Monday through Friday, excluding legal holidays. The telephone number for the Public Reading Room is (202) 566-1744, and the telephone number for the EPA Docket Center is (202) 566-1742. The EPA Web Site for the rulemaking, which includes the proposal and information about the public hearing, can be found at http://www.epa.gov/nsr.

FOR FURTHER INFORMATION CONTACT: Pamela Long, U.S. EPA, Office of Air Quality Planning and Standards, Air Quality Policy Division, C504-03, Research Triangle Park, NC 27711; telephone number (919) 541-0641, e-mail address: long.pam@epa.gov.

Dated: August 31, 2010.
Mary Henigin,
Acting Director, Office of Air Quality Planning and Standards.

[FR Doc. C1-2010-22208 Filed 9-3-10; 8:45 am]

BILLING CODE 6560-50-P